DEPARTMENT OF HEALTH AND HUMAN SERVICES

Performance Review Board Members

Title 5, U.S.C. Section 4314(c)(4) of the Civil Service Reform Act of 1978, Public Law 95-454, requires that the appointment of Performance Review Board Members be published in the Federal Register. The following persons may be named to serve on the Performance Review Boards or Panels, which oversee the evaluation of performance appraisals of Senior Executive Service members of the Department of Health and Human Services.

Employee last name | Employee first name
Alvarez | Karl
Bush | Laina
Cash | Lester
Hoffman | Darrell
Kerr | Lawrence
Walker | Edwin

Dated: October 10, 2018.
Charles H. McEnerney III,
Director, Executive and Scientific Resources Division.

[FR Doc. 2018-22491 Filed 10-15-18; 8:45 am]

BILLING CODE 4151-17-P